DEPARTMENT OF COMMERCE

National Oceanic and Atmospheric Administration

RIN 0648-XG111

Fisheries of the South Atlantic; South Atlantic Fishery Management Council; Public Meetings

AGENCY: National Marine Fisheries Service (NMFS), National Oceanic and Atmospheric Administration (NOAA), Commerce.

ACTION: Notice of meeting of the South Atlantic Fishery Management Council's Personnel Committee (closed session).

SUMMARY: The South Atlantic Fishery Management Council (Council) will hold a meeting of its Personnel Committee in closed session to discuss personnel issues.

DATES: The meeting will be held April 10, 2018, from 1 p.m. until 5 p.m. and April 11, 2018, from 8:30 a.m. until 1 p.m.

ADDRESSES: Meeting address: The meeting will be held at the Crown Plaza, 4831 Tanger Outlet Boulevard, North Charleston, SC 29418; telephone: (843) 744-4422.

FOR FURTHER INFORMATION CONTACT: Gregg Waugh, Executive Director, SAFMC; phone: (843) 302-8433 or toll free: (866) SAFMC-10; fax: (843) 769-4520; email: Gregg.Waugh@safmc.net.

SUPPLEMENTARY INFORMATION: The Council's Personnel Committee will meet in closed session to discuss personnel issues as they pertain to Council staff.

Special Accommodations

This meeting is being held in closed session.

Note: The times and sequence specified in this agenda are subject to change.

Authority: 16 U.S.C. 1801 et seq.

Dated: March 22, 2018.
Jeffrey N. Lonergan,
Acting Deputy Director, Office of Sustainable Fisheries, National Marine Fisheries Service.

[FR Doc. 2018-06086 Filed 3-26-18; 8:45 am]

BILLING CODE 3510-22-P